DEPARTMENT OF AGRICULTURE

Food Safety and Inspection Service

[Docket No. 01-045N]

Codex Alimentarius Commission: 3rd Session, Ad Hoc Intergovernmental Task Force on Foods Derived From Biotechnology

AGENCY: Office of the Under Secretary for Food Safety, USDA.

ACTION: Notice of public meeting and request for comments.

SUMMARY: The Office of the Under Secretary for Food Safety, U.S. Department of Agriculture (USDA), and the Food and Drug Administration (FDA), are sponsoring two public meetings on Wednesday, January 9, 2002, and on Tuesday, February 12, 2002, to present and receive comment on draft United States positions on all issues coming before the 3rd Session of the Ad Hoc Intergovernmental Task Force on Foods Derived From Biotechnology, which will be held in Yokohama, Japan, March 4-8, 2002. The Under Secretary for Food Safety and FDA recognize the importance of providing interested parties the opportunity to obtain background information on the 3rd Session, Ad Hoc Intergovernmental Task Force on Foods Derived From Biotechnology.

DATES: The public meetings are scheduled for Wednesday, January 9, 2002 from 1 p.m. to 4 p.m., and Thursday, February 12, 2002 from 1 p.m. to 4 p.m.

ADDRESSES: The public meetings will be held in Conference Room 1409, Federal Office Building 8, 200 C Street, SW., Washington, DC 20204. To review copies of the documents referenced in this notice, contact the FSIS Docket Room, U.S. Department of Agriculture, Food Safety and Inspection Service, Room 102, Cotton Annex, 300 12th Street, SW., Washington, DC 20250-3700. The documents will also be accessible via the World Wide Web at the following address: http://www.codexalimentarius.net/ccfbt3/bt0201e.htm Send comments, in triplicate, to the FSIS Docket Room and reference Docket #01-045N. Commenters should reference the document relevant to their comments. All comments submitted in response to this notice will be available for public inspection in the FSIS Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue SW., Washington, DC 20250-3700, Telephone (202) 205-7760, Fax (202) 720-3157. Persons requiring a sign language interpreter or other special accommodations should notify Mr. Clerkin at the above number.

SUPPLEMENTARY INFORMATION:

Background

Codex was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. The Commission, at its 23rd Session, established the Ad Hoc Intergovernmental Task Force on Foods Derived From Biotechnology to develop standards, guidelines, or recommendations, as appropriate, for foods derived from biotechnology or traits introduced into foods by biotechnology, on the basis of scientific evidence, risk analysis and having regard, where appropriate, to other legitimate factors relevant to the health of consumers and the promotion of fair trade practices. The Task Force is chaired by the government of Japan.

Issues To Be Discussed at the Public Meeting

The provisional agenda items and the relevant documents to be discussed during the public meeting are:

1. Matters Referred to the Task Force by Other Codex Committees; Document CX/FBT 02/2

2. Matters of Interest from Other International Organizations with respect to the Evaluation of the Safety and Nutrition Aspects of Foods Derived from Biotechnology; Document CX/FBT 02/3

3. Consideration of Draft Principles for the Risk Analysis of Foods Derived from Modern Biotechnology, at Step 7; Document ALINORM 01/34A Appendix II; Government Comments at Step 6; Document CX/FBT 02/4

4. Draft Guidelines and Annex

(a) Consideration of Draft Guideline for the Conduct of Food Safety Assessment of Foods Derived from Recombinant-DNA Plants at Step 7; Document ALINORM 01/34A Appendix III;

—Government Comments at Step 6; Document CX/FBT 02/5;

—Proposed Revised Text on the Section Entitled “Assessment of Possible Toxicity” from the Draft Guideline for the Conduct of Food Safety Assessment of Foods Derived from Recombinant-DNA Plants; Document CL 2001/38-FBT, Annex II;

—Response to Questions from the Chair of the Task Force put forward for consideration by the Working Group; Document CL 2001/38-FBT, Annex II;

—Government Comments on the above two documents (CL 2001/38-FBT Annex II and Annex III) at Step 6; Document CX/FBT 02/5 Add.1;

(b) Consideration of Proposed Draft Annex on the Assessment of Possible Allergenicity of the Draft Guideline for the Conduct of Food Safety Assessment of Foods Derived from Recombinant-DNA Plants at Step 4; Document CL 2001/38-FBT, Annex I

—Government Comments at Step 3; Document CX/FBT 02/6

5. Consideration of Proposed Draft Guideline for the Conduct of Food Safety Assessment of Recombinant-DNA Microorganisms in Food at Step 4; Document CX/FBT 02/7;

—Government Comments at Step 3; Document CX/FBT 02/7 Add.1

6. Discussion Papers on Traceability; Document CL 2001/27-FBT;

—Government Comments; Document CX/FBT 02/8

7. Consideration of Analytical Methods; Document CX/FBT 02/9

8. Other Business, Future Work and Date and Place of Next Session

In advance of these meetings, the U.S. Delegate to the Task Force will have assigned responsibility for development of U.S. positions on these issues to members of government. The individuals assigned responsibility will be named at this meeting and will take comment on and develop draft U.S positions. All interested parties are invited to provide information and comments on the above issues, or on any other issues that may be brought before the Task Force.

Public Meeting

At the January 9th public meeting, the issues will be described, discussed, and attendees will have the opportunity to pose questions and offer comments. At the February 12th public meeting, draft United States' positions on the issues will be described, discussed, and attendees will have the opportunity to pose questions and offer comments. Comments may also be sent to the FSIS Docket Room (see ADDRESSES). Please state that your comments relate to Task Force activities and specify which issues your comments address.

Additional Public Notification

Public awareness of all segments of rulemaking and policy development is important. Consequently, in an effort to better ensure that minorities, women, and persons with disabilities are aware of this notice, FSIS will announce it and provide copies of this Federal Register publication in the FSIS Constituent Update. FSIS provides a weekly Constituent Update, which is communicated via fax to over 300 organizations and individuals. In addition, the update is available on-line through the FSIS web page located at http://www.fsis.usda.gov. The update is used to provide information regarding FSIS policies, procedures, regulations, Federal Register notices, FSIS public meetings, recalls, and any other types of information that could effect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.
Done at Washington, DC on: January 8, 2002.
F. Edward Scarbrough,
U.S. Manager for Codex Alimentarius.

[FR Doc. 02-739 Filed 1-8-02; 1:15 pm]

BILLING CODE 3410-DM-P